DEPARTMENT OF THE INTERIOR

Bureau of Land Management

43 CFR Part 3900

[WO-3201310-PP-OSHL]

RIN 1004-AD90

Commercial Oil Shale Leasing Program

AGENCY: Bureau of Land Management, Interior.

ACTION: Notice of reopening of public comment period.

SUMMARY: The Bureau of Land Management (BLM) is reopening and extending by 30 days, the public comment period for the Advance Notice of Proposed Rulemaking (ANPR) published in the Federal Register on August 25, 2006 (71 FR 50378). The ANPR requested comments and suggestions to assist in the writing of a proposed rule to establish a commercial leasing program for oil shale. In order to provide the public with additional time to prepare and submit comments, the BLM is extending the comment period 30 days from the original comment period closing date of September 25, 2006. The comment period is extended to October 25, 2006.

DATES: We will accept comments and suggestions on the ANPR until October 25, 2006.

ADDRESSES: Commenters may mail written comments to the Bureau of Land Management, Administrative Record, Room 401LS, 1849 C Street, NW, Washington, DC 20240; or hand-deliver written comments to the Bureau of Land Management, Administrative Record, Room 401, 1620 L Street, NW., Washington, DC 20036. Federal eRulemaking Portal: http://www.regulations.gov. E-mail: Comments_washington@blm.gov. (Include “Attn: 1004-AD90”)

FOR FURTHER INFORMATION CONTACT: For information on the substance of the Advance Notice, please contact Ted Murphy at (202) 452-0350. For information on procedural matters, please contact Kelly Odom at (202) 452-5028. Persons who use a telecommunications device for the deaf (TDD) may call the Federal Information Relay Service (FIRS) at 1-800-877-8339, to contact the above individuals during business hours. FIRS is available twenty-four hours a day, seven days a week.

SUPPLEMENTARY INFORMATION: The BLM published the ANPR on August 25, 2006 (71 FR 50378), and provided a 30-day comment period that will end on September 25, 2006. We are extending the comment period on the ANPR until October 25, 2006. The comment period is being extended in order to provide additional time for the public to prepare and submit comments on the commercial oil shale leasing program that the BLM is developing.

As stated in the August 25, 2006, ANPR, the BLM is particularly interested in receiving comments on the following questions relating to regulations it is developing for an oil shale commercial leasing program:

1. What should be the royalty rate and point of royalty determination?

2. Should the regulations establish a process for bid adequacy evaluation, i.e., Fair Market Value determination, or should the regulations establish a minimum acceptable lease bonus bid?

3. How should diligent development be determined?

4. What should be the minimum production requirement?

5. Should there be provisions for small tract leasing?

The BLM is also interested in receiving any other comments regarding content and structure of the oil shale leasing program.

Dated: September 19, 2006.
Chad Calvert,
Acting Assistant Secretary, Land and Minerals Management.

[FR Doc. 06-8198 Filed 9-25-06; 8:45 am]

BILLING CODE 4310-84-P